NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978, Public Law 95-541. This is the required notice.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: On October 3, 2017, the National Science Foundation published a notice in the Federal Register of a permit applications received. The permits were issued on November 2, 2017 to:

1. Robin West, Permit No. 2018-007

2. Dwayne Stevens, Permit No. 2018-014

3. Brandon Harvey, Permit No. 2018-015

4. Conrad Combrink, Permit No. 2018-017

Nadene G. Kennedy,
Polar Coordination Specialist, Office of Polar Programs.

[FR Doc. 2018-06444 Filed 3-29-18; 8:45 am]

BILLING CODE 7555-01-P